DEPARTMENT OF HEALTH AND HUMAN SERVICES

Administration for Children and Families

Delegation of Authority

Notice is hereby given that I have redelegated to Charles N.W. Keckler, Esq., Senior Advisor, Immediate Office of the Assistant Secretary, Administration for Children and Families (ACF), the following authority vested in the Assistant Secretary for Children and Families.

(a) Authority Delegated.

Authority to review and make decisions to approve or disapprove requests for testimony by ACF employees or former ACF employees concerning information acquired in the course of performing official duties or because of such persons' official capacity with the Department of Health and Human Services in proceedings where the United States is not a party.

(b) Limitations and Conditions.

This redelegation may not be further redelegated.

(c) Effect on Existing Delegations.

None.

(d) Effective date.

This redelegation is effective on the date of signature. I hereby affirm and ratify any actions taken by Mr. Charles Keckler which, in effect, involved the exercise of this authority prior to the effective date of this redelegation.

Dated: May 2, 2008.
Daniel C. Schneider,
Acting Assistant Secretary for Children and Families.

[FR Doc. E8-10766 Filed 5-13-08; 8:45 am]

BILLING CODE 4184-01-P